FEDERAL COMMUNICATIONS COMMISSION

47 CFR Part 73

[DA 25-293; MB Docket No. 23-198; RM-11950, RM-11972; FR ID 288463]

Radio Broadcasting Services; Koloa, Hawaii and Waimea, Hawaii

AGENCY: Federal Communications Commission.

ACTION: Final rule; petition for reconsideration.

SUMMARY: This document amends the Table of FM Allotments, of the Federal Communications Commission's (Commission) rules, by substituting Channel 272A for vacant Channel 264A at Koloa, Hawaii. The staff engineering analysis determines that Channel 272A at Koloa can be allotted consistent with the minimum distance separation requirements of the Commission's rules with a site restriction of 8.3 kilometers (5.2 miles) northwest of the community. The reference coordinates are 21-58-24 NL and 159-29-45 WL.

DATES: Effective May 16, 2025.

FOR FURTHER INFORMATION CONTACT: Rolanda F. Smith, Media Bureau, (202) 418-2054, Rolanda-Faye.Smith@fcc.gov.

SUPPLEMENTARY INFORMATION: This is a synopsis of the Commission's Memorandum Opinion and Order, adopted March 31, 2025 and released April 1, 2025. The full text of this Commission decision is available online at https://apps.fcc.gov/ecfs/. The full text of this document can also be downloaded in Word or Portable Document Format (PDF) at https://www.fcc.gov/edocs. This document does not contain information collection requirements subject to the Paperwork Reduction Act of 1995, Public Law 104-13. The Commission will send a copy of the Memorandum Opinion and Order in a report to be sent to Congress and the Government Accountability Office pursuant to the Congressional Review Act, see 5 U.S.C. 801(a)(1)(A).

List of Subjects in 47 CFR Part 73

Radio, Radio broadcasting.

Federal Communications Commission.
Nazifa Sawez,
Assistant Chief, Audio Division, Media Bureau.

Final Rules

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.202, amend table 1 to paragraph (b) under Hawaii, by revising in alphabetical order the entry for “Koloa” to read as follows:

§ 73.202 Table of Allotments.

* * * * *

(b) Table of FM Allotments.

Table 1 to Paragraph (b)
[U.S. States]
| Channel No.
* * * * *
Hawaii
* * * * *
Koloa | 272A
* * * * *

[FR Doc. 2025-06076 Filed 4-8-25; 8:45 am]

BILLING CODE 6712-01-P